DEPARTMENT OF THE INTERIOR

National Park Service

[NPS-WASO-NRNHL-11378; 2200-3200-665]

National Register of Historic Places; Notification of Pending Nominations and Related Actions

Nominations for the following properties being considered for listing or related actions in the National Register were received by the National Park Service before September 22, 2012. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, 202-371-6447. Written or faxed comments should be submitted by November 5, 2012. Before including your address, phone number, email address, or other personal identifying information in your comment, you should be aware that your entire comment—including your personal identifying information—may be made publicly available at any time. While you can ask us in your comment to withhold your personal identifying information from public review, we cannot guarantee that we will be able to do so.

Dated: September 26, 2012.
J. Paul Loether,
Chief, National Register of Historic Places/National Historic Landmarks Program.

IOWA

Linn County

Cedar Rapids Pump Company Factory and Warehouse, (Cedar Rapids, Iowa MPS) 605 G Ave. NW., Cedar Rapids, 12000907

Plymouth County

Le Mars Downtown Commercial Historic District, Bounded by 2nd St. N, 2nd Ave. W., 1st St., S., & 1st Ave. E., Le Mars, 12000908

MISSOURI

Butler County

Williams—Gierth House, (Poplar Bluff MPS) 848 Vine St., Poplar Bluff, 12000909

St. Louis County

Pond School, (One-Teacher Public Schools of Missouri MPS) 17123 Manchester Rd., Wildwood, 12000910

NEVADA

Clark County

Cave Rock, Address Restricted, Lincoln Park, 12000911

NEW MEXICO

Santa Fe County

Santa Fe Trail—Apache Canyon Bridge Site, (Santa Fe Trail MPS) Across Galisteo Cr., Glorieta, 12000912

NORTH CAROLINA

Wake County

Morrisville Christian Church, (Wake County MPS) 222 Church St., Morrisville, 12000913

WISCONSIN

Milwaukee County

Milwaukee River Parkway, (Milwaukee County Parkway System MPS) Between Good Hope Rd. & W. Capitol Dr., Milwaukee, 12000914

[FR Doc. 2012-25730 Filed 10-18-12; 8:45 am]

BILLING CODE 4312-51-P